DEPARTMENT OF HOUSING AND URBAN DEVELOPMENT

[Docket No. FR-5091-N-04]

Notice of Proposed Information Collection: Comment Request; Federal Labor Standards Remote Monitoring

AGENCY: Office of Labor Relations, HUD.

ACTION: Notice.

SUMMARY: The proposed information collection requirement described below will be submitted to the Office of Management and Budget (OMB) for review, as required by the Paperwork Reduction Act. The Department is soliciting public comments on the subject proposal.

DATES: Comments Due Date: December 4, 2006.

ADDRESSES: Interested persons are invited to submit comments regarding this proposal. Comments should refer to the proposal by name and/or OMB Control Number and should be sent to: Lillian Deitzer, Reports Management Officer, Department of Housing and Urban Development, 451 7th Street, SW., Room 4176, Washington, DC 20410 or Lillian_L._Deitzer@hud.gov.

FOR FURTHER INFORMATION CONTACT: Jade Banks, Senior Policy Advisor, Office of Labor Relations, Department of Housing and Urban Development, 451 7th Street, SW., Room 2102, Washington, DC 20410 or Jade_M._Banks@hud.gov, telephone (202) 708-0370, Ext. 5475 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Federal Labor Standards Remote Monitoring.

OMB Control Number, if applicable: None.

Description of the need for the information and proposed use: Many HUD programs are subject to Federal labor standards provisions, including the payment of federally-determined prevailing wage rates to construction and maintenance laborers and mechanics, and the payment of premium rates for overtime hours worked. Several HUD programs are administered by State, local, and tribal agencies, aka local contracting agencies (LCAs), to which HUD has delegated labor standards administration and enforcement responsibilities. HUD is responsible, overall, for full compliance with Federal labor standards requirements in all of its programs and must monitor LCA performance. HUD prefers to conduct monitoring reviews on-site, at the LCA's place(s) of business. In some instances, resource constraints may limit HUD's ability to conduct on-site LCA monitoring. To ensure compliance, HUD may resort to remote monitoring requiring LCAs to submit to HUD information relating to performance in the delegated areas of labor standards administration and enforcement.

In order for HUD to accomplish remote monitoring and to assist LCAs, HUD proposes to institute remote monitoring information collection requirements and has created forms on which LCAs may submit information necessary for HUD's monitoring review.

HUD and LCAs would be required to maintain records of these remote monitoring forms and the results of the remote monitoring review for three (3) years after the review or the resolution of any findings, whichever is later.

Agency form numbers, if applicable: Proposed forms HUD-4742 (A, B, C, D, and E for city, county, and Tribal agencies); and HUD-4743 (A and B for State agencies).

Estimation of the total numbers of hours needed to prepare the information collection including number of respondents, frequency of response, and hours of response:

Item | Number of respondents | Amount of time required (hours) | Total time required/annum (hours)
HUD-4742 (A through E) | 45 | 4 | 180
HUD-4743 (A and B) | 5 | 4 | 20
Recordkeeping | 50 | 1 | 50
Total Annual Burden |  |  | 250

Status of the proposed information collection: This is a new collection.

Authority: The Paperwork Reduction Act of 1995, 44 U.S.C., Chapter 35, as amended.

Dated: September 28, 2006.
Edward L. Johnson,
Director, Office of Labor Relations.

[FR Doc. E6-16440 Filed 10-4-06; 8:45 am]

BILLING CODE 4210-67-P